DEPARTMENT OF COMMERCE

Foreign-Trade Zones Board

[B-67-2020]

Foreign-Trade Zone (FTZ) 26—Atlanta, Georgia; Notification of Proposed Production Activity; Ricoh Electronics, Inc. (Toner Products, Thermal Paper and Thermal Film), Lawrenceville and Buford, Georgia

Ricoh Electronics, Inc. (Ricoh) submitted a notification of proposed production activity to the FTZ Board for its facilities in Lawrenceville and Buford, Georgia. The notification conforming to the requirements of the regulations of the FTZ Board (15 CFR 400.22) was received on November 2, 2020.

Ricoh already has authority to produce copiers, printers, toner cartridges, related toner products, thermal paper and thermal film products within Subzone 26H. The current request would add foreign-status materials to the scope of authority. Pursuant to 15 CFR 400.14(b), additional FTZ authority would be limited to the specific foreign-status materials/components described in the submitted notification (as described below) and subsequently authorized by the FTZ Board.

Production under FTZ procedures could exempt Ricoh from customs duty payments on the foreign-status materials used in export production. On its domestic sales, for the foreign-status materials noted below, Ricoh would be able to choose the duty rates during customs entry procedures that apply to copiers, printers, toner cartridges, related toner products, thermal paper and thermal film (duty rate ranges between duty-free and 5.8%). Ricoh would be able to avoid duty on foreign-status materials which become scrap/waste. Customs duties also could possibly be deferred or reduced on foreign-status production equipment.

The materials sourced from abroad include titanium dioxide mixture (titanium dioxide, methyltrimethoxy silane, and trifluoropropyltrimethoxysilane), silica mixture (silica is over 91% of mixture), polycarbonate/acrylonitrile butadiene styrene resin, and calcium oxide mixture (calcium oxide is over 85% of mixture) (duty rate ranges between 5% and 6%). The request indicates that certain materials are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 23, 2020.

A copy of the notification will be available for public inspection in the “Reading Room” section of the Board's website, which is accessible via www.trade.gov/ftz.

For further information, contact Diane Finver at Diane.Finver@trade.gov or (202) 482-1367.

Dated: November 9, 2020.
Andrew McGilvray,
Executive Secretary.

[FR Doc. 2020-25138 Filed 11-12-20; 8:45 am]

BILLING CODE 3510-DS-P